THE NATIONAL FOUNDATION FOR THE ARTS AND THE HUMANITIES

Notice of Extension of Expiring Information Collection: IMLS Library Workforce Study

AGENCY: Institute of Museum and Library Services, National Foundation for the Arts and Humanities.

ACTION: Notice.

SUMMARY: The Institute of Museum and Library Service (IMLS) as part of its continuing effort to reduce paperwork and respondent burden, conducts a pre-clearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently the Institute of Museum and Library Services is soliciting comments concerning a study to promote improved workforce planning including strategies for recruitment and retention of workers in the LIS field. In particular, the study aims to collect current and projected employment in terms of numbers of positions (filled and vacant), functional specialization, educational requirements, skill/competency requirements, salaries and benefits, demographics, annual budget/expenditures, constituency or market size. Information to be collected from LIS professionals includes current employment, career path and career progression, professional association/union membership and demographics.

DATES: Written comments must be submitted to the office listed in the ADDRESSES section below on or before 60 days from the date of this publication. IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated electronic, mechanical, or other technological collection techniques or other forms of information technology, e.g., permitting electronic submissions of responses.

ADDRESSES: Send comments to: Lesley Langa, Research Specialist, Institute of Museum and Library Services, 1800 M Street, NW., 9th floor, Washington, DC 20036, by telephone: 202-653-4760; fax: 202-653-4611; or by e-mail at llanga@imls.gov.

SUPPLEMENTARY INFORMATION:

1. Background

The Institute of Museum and Library Services is authorized under U.S.C. 20 Chapter 72, and is the primary source of federal support for the nation's 122,000 libraries and 17,500 museums. The Institute's mission is to create strong libraries and museums that connect people to information and ideas. The Institute works at the national level and in coordination with state and local organizations to sustain heritage, culture, and knowledge; enhance learning and innovation; and support professional development.

II. Current Actions

Agency: Institute of Museum and Library Services.

Title: National Study on the Future of Librarians in the Workforce.

OMB Number: 3137-0063, expiration date: 06/30/2008.

Agency Number: 3137.

Frequency: One time.

Affected Public: Libraries, librarians, other information professionals.

Number of Respondents: To be determined.

Estimated Time per Respondent: To be determined.

Total Annualized Capital/Startup Costs: To be determined.

Total Costs: To be determined.

FOR FURTHER INFORMATION CONTACT: Lesley Langa, Research Specialist, Institute of Museum and Library Services, 1800 M Street, NW., 9th floor, Washington, DC 20036, by telephone: 202-653-4760; fax: 202-653-4611; or by e-mail at llanga@imls.gov.

Dated:June 19, 2008.
Lesley Langa,
Research Specialist, Institute of Museum and Library Services.

[FR Doc. E8-14344 Filed 6-24-08; 8:45 am]

BILLING CODE 7036-01-P